NUCLEAR REGULATORY COMMISSION

[Docket Nos. 50-498, 50-499, and 72-1041; NRC-2024-0169]

In the Matter of STP Nuclear Operating Company; South Texas Project, Units 1 and 2 and the Associated Independent Spent Fuel Storage Installation; Direct Transfer of License

AGENCY: Nuclear Regulatory Commission.

ACTION: Order; issuance.

SUMMARY: The U.S. Nuclear Regulatory Commission (NRC) is issuing an order approving the application dated July 31, 2024, filed by STP Nuclear Operating Company, acting on behalf of the City of San Antonio, Texas, acting by and through the City Public Service Board of San Antonio (CPS Energy) and Constellation South Texas, LLC. Specifically, the order approves the direct transfer of a two percent ownership interest of Renewed Facility Operating License Nos. NPF-76 and NPF-80 for South Texas Project, Units 1 and 2, respectively, and its generally licensed independent spent fuel storage installation from Constellation South Texas, LLC to CPS Energy.

DATES: The order was issued on December 11, 2024, and is effective for 1 year.

ADDRESSES: Please refer to Docket ID NRC-2024-0169 when contacting the NRC about the availability of information regarding this document. You may obtain publicly available information related to this document using any of the following methods:

• Federal Rulemaking Website: Go to https://www.regulations.gov and search for Docket ID NRC-2024-0169. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The order and safety evaluation supporting the order are available in ADAMS under Package Accession No. ML24319A032.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Thomas Byrd, Office of Nuclear Reactor Regulation, U.S. Nuclear Regulatory Commission, Washington, DC 20555-0001; telephone: 301-415-3719; email: Thomas.Byrd@nrc.gov.

SUPPLEMENTARY INFORMATION: The text of the order is attached.

Dated: December 20, 2024.
For the Nuclear Regulatory Commission.
Thomas J. Byrd,
Project Manager, Licensing Branch 4, Division of Operating Reactor Licensing, Office of Nuclear Reactor Regulation.

Attachment—Order Approving the Direct Transfer of License

United States of America

Nuclear Regulatory Commission

In the Matter of: STP Nuclear Operating Company, (South Texas Project, Units 1 and 2 and 72-1041 the Associated Independent Spent Fuel Storage Installation), Docket Nos. 50-498. 50-499, and, Renewed License Nos. NPF-76 and NPF-80

Order Approving Direct Transfer of License

I.

STP Nuclear Operating Company (STPNOC) is the licensed operator, and the City of San Antonio, Texas, acting by and through the City Public Service Board of San Antonio (CPS Energy), Constellation South Texas, LLC (Constellation South Texas), and the City of Austin, Texas, are the licensed owners for Renewed Facility Operating License Nos. NPF-76 and NPF-80 and the general license for the independent spent fuel storage installation (ISFSI) (collectively, the licenses), which authorize the possession, use, and operation of South Texas Project, (STP), Units 1 and 2 and the STP ISFSI, respectively (the facilities). The facilities are located in Matagorda County, Texas.

II.

Pursuant to Title 10 of the Code of Federal Regulations (10 CFR) Section 50.80, “Transfer of licenses,” and 10 CFR 72.50, “Transfer of license,” and by letter dated July 31, 2024 (Agencywide Documents Access and Management System (ADAMS) Accession No. ML24213A084), STPNOC, acting on behalf of Constellation South Texas, and CPS Energy (collectively, the “Applicants”), requested that the U.S. Nuclear Regulatory Commission (NRC, the Commission) consent to the transfer of a 2 percent ownership interest of STP, Units 1 and 2 and its generally licensed ISFSI from Constellation South Texas to CPS Energy. Currently, Constellation South Texas holds a 44 percent ownership interest in the facilities, while CPS Energy holds a 40 percent ownership interest in the facilities. Upon completion of the proposed direct transfer, Constellation South Texas and CPS Energy would each hold a 42 percent ownership in the facilities. The proposed direct transfer does not involve the City of Austin's 16 percent ownership interest in the facilities.

On October 4, 2024, the NRC published a notice of consideration of approval of the application in the Federal Register (89 FR 80965). This notice provided an opportunity to comment, request a hearing, and petition for leave to intervene on the application. The NRC did not receive any written comments or hearing requests in response to the notice.

Pursuant to 10 CFR 50.80, no license for a utilization facility, or any right thereunder, shall be transferred, either voluntarily or involuntarily, directly or indirectly, through transfer of control of the license to any person, unless the Commission gives its consent in writing. Pursuant to 10 CFR 72.50, no license or any part included in a license issued under 10 CFR part 72 for an ISFSI shall be transferred, assigned, or in any manner disposed of, either voluntarily or involuntarily, directly or indirectly, through transfer of control of the license to any person, unless the Commission gives its consent in writing. Upon review of the information in the application, and other information before the Commission, and relying upon the representations contained in the application, the NRC staff has determined that the Applicants are qualified to hold the licenses, to the extent described in the application, and that the transfer of the licenses is otherwise consistent with applicable provisions of law, regulations, and orders issued by the Commission pursuant thereto, subject to the condition set forth below.

The findings set forth above are supported by an NRC staff safety evaluation dated the same date as this order, which is available at Agencywide Documents Access and Management System (ADAMS) Accession No. ML24319A034.

III.

Accordingly, pursuant to Sections 161b, 161i, 161o, and 184 of the Atomic Energy Act of 1954, as amended, 42 U.S.C. 2201(b), 2201(i), 2201(o), and 2234; and 10 CFR 50.80 and 10 CFR 72.50, it is hereby ordered that that the application regarding the proposed direct license transfer is approved for STP, Units 1 and 2, and the ISFSI.

It is ordered that after receipt of all required regulatory approvals of the proposed transaction, the Applicants shall inform the Director of the Office of Nuclear Reactor Regulation in writing of such receipt no later than 5 business days prior to the planned closing of the proposed transaction. Should the proposed transaction not be completed within 1 year of the date of this order, this order shall become null and void, provided, however, that upon written application to the Director of the Office of Nuclear Reactor Regulation and for good cause shown, such date may be extended by order. The condition of this order may be amended upon application by the Applicants and approval by the NRC.

This Order is effective upon issuance.

For further details with respect to this Order, see the application dated July 31, 2024, and the associated NRC safety evaluation dated the same date as this order. Publicly available documents created or received at the NRC are accessible electronically through ADAMS in the NRC Library at http://www.nrc.gov/reading-rm/adams.html. Persons who do not have access to ADAMS or who encounter problems in accessing the documents located in ADAMS, should contact the NRC Public Document Room reference staff by telephone at 1-800-397-4209, or 301-415-4737, or by email to pdr.resource@nrc.gov.

For the Nuclear Regulatory Commission

/RA/

Aida Rivera-Varona, Deputy Director

Division of Operating Reactor Licensing Office of Nuclear Reactor Regulation

Dated: December 11, 2024

[FR Doc. 2024-30973 Filed 12-27-24; 8:45 am]

BILLING CODE 7590-01-P